FARM CREDIT ADMINISTRATION

Privacy Act of 1974; Establishment of a New System of Records

AGENCY: Farm Credit Administration.

ACTION: Notice of establishment of a new system of records maintained on individuals; request for comments.

SUMMARY: Pursuant to the provisions of the Privacy Act of 1974, as amended (5 U.S.C. 552a), notice is hereby given that the Farm Credit Administration (FCA) is publishing a system notice, which indicates the establishment of a new Privacy Act system of records. The system notice provides information on the existence and character of the system of records for an Organization Locator and Personnel Roster.

DATES: Written comments should be received by June 30, 2005. The FCA filed a New System Report with Congress and the Office of Management and Budget on May 24, 2005. This notice will become effective without further publication on July 14, 2005, unless modified by a subsequent notice to incorporate comments received from the public.

ADDRESSES: Mail written comments to Debra Buccolo, Privacy Act Officer, Farm Credit Administration, McLean, Virginia 22102-5090. You may send comments by e-mail to dbuccolo@fca.gov. Copies of all communications received will be available for examination by interested parties in the offices of the Farm Credit Administration.

FOR FURTHER INFORMATION CONTACT: Debra Buccolo, Privacy Act Officer, Farm Credit Administration, McLean, Virginia 22102-5090, (703) 883-4022, TTY (703) 883-4020, or

Jane Virga, Office of General Counsel, Farm Credit Administration, McLean, Virginia, 22102-5090, (703) 883-4071, TTY (703) 883-4020.

SUPPLEMENTARY INFORMATION: This publication satisfies the requirement of the Privacy Act of 1974 that agencies publish a system of records notice in the Federal Register when there is a revision, change, or addition to the system of records. As required by the Privacy Act of 1974, the FCA has identified a new system of records. The notice reflects designated points of contact for inquiring about the system, accessing the records, and requesting amendments to the records.

The new system of records is: FCA-17, Organization Locator and Personnel Roster. As required by 5 U.S.C. 552a(r) of the Privacy Act, as amended, the FCA has sent notice of this proposed system of records to the Office of Management and Budget, the Committee on Government Reform of the House of Representatives, and the Committee on Governmental Affairs of the Senate. The notice is published in its entirety below.

FCA-17

SYSTEM NAME:

Organization Locator and Personnel Roster System—FCA.

SECURITY CLASSIFICATION:

None.

SYSTEM LOCATION:

Records are located at the Farm Credit Administration.

CATEGORIES OF INDIVIDUALS COVERED BY THE SYSTEM:

Current FCA employees.

CATEGORIES OF RECORDS IN THE SYSTEM:

Paper and electronic records. Includes information such as names; home addresses; telephone numbers; cell phone numbers; official titles or positions and organizations; photographs; and other information associated with identifying and contacting personnel. Locator records of Agency personnel.

AUTHORITY FOR MAINTENANCE OF THE SYSTEM:

12 U.S.C. 2243, 2252.

PURPOSES:

To contact and recall personnel when required; locate personnel for routine and emergency matters; provide mail distribution and forwarding addresses; compile a social roster for official and non-official functions; send personal greetings and invitations; and locate individuals during medical emergencies, facility evacuations, and similar threat situations. To identify Agency personnel.

ROUTINE USES OF RECORDS MAINTAINED IN THE SYSTEM, INCLUDING CATEGORIES OF USERS AND THE PURPOSES OF SUCH USES:

See the “General Statement of Routine Uses.”

DISCLOSURE TO CONSUMER REPORTING AGENCIES:

None.

POLICIES AND PRACTICES FOR STORING, RETRIEVING, ACCESSING, RETAINING, AND DISPOSING OF RECORDS IN THE SYSTEM:

STORAGE:

Information stored in hard copy and electronically.

RETRIEVABILITY:

Retrievable by name.

SAFEGUARDS:

Access is limited to those whose official duties require access. File cabinets and rooms are locked during non-duty hours. Computers are protected by firewalls and passwords.

RETENTION AND DISPOSAL:

In accordance with National Archives and Records Administration General Records schedule requirements.

SYSTEM MANAGER(S) AND ADDRESS:

Director, Office of the Chief Information Officer, Farm Credit Administration, McLean, VA 22102-5090.

NOTIFICATION PROCEDURE:

Direct all inquiries about this system of records to: Privacy Act Officer, Farm Credit Administration, McLean, VA 22102-5090.

RECORD ACCESS PROCEDURES:

Same as above.

CONTESTING RECORD PROCEDURES:

Same as above.

RECORD SOURCE CATEGORIES:

Information in this system of records either comes from the individual to whom it applies or comes from information supplied by Agency officials.

EXEMPTIONS CLAIMED FOR THE SYSTEM:

None.

Dated: May 24, 2005.
Jeanette C. Brinkley,
Secretary, Farm Credit Administration Board.

[FR Doc. 05-10709 Filed 5-27-05; 8:45 am]

BILLING CODE 6705-01-P